DEPARTMENT OF ENERGY

Federal Energy Regulatory Commission

Combined Notice of Filings

Take notice that the Commission has received the following Natural Gas Pipeline Rate and Refund Report filings:

Filings Instituting Proceedings

Docket Numbers: PR14-7-000.

Applicants: Lee 8 Storage Partnership.

Description: Tariff filing per 284.123(b)(2) +: Rate Change Filing to be effective 11/14/2013.

Filed Date: 10/14/13.

Accession Number: 20131114-5110.

Comments Due: 5 p.m. ET 12/5/13.

284.123(g) Protests Due: 5 p.m. ET 1/13/14.

Docket Numbers: CP14-20-000.

Applicants: Transcontinental Gas Pipeline Company, LLC.

Description: Application of Transcontinental Gas Pipe Line Company, LLC to abandon service under Rate Schedule FT provided to Delmarva Power & Light Company.

Filed Date: 11/13/13.

Accession Number: 20131113-5093.

Comments Due: 5 p.m. ET 11/25/13.

Docket Numbers: RP14-165-000.

Applicants: Natural Gas Pipeline Company of America.

Description: Negotiated Rate—Village of Bethany to be effective 12/1/2013.

Filed Date: 11/14/13.

Accession Number: 20131114-5074.

Comments Due: 5 p.m. ET 11/26/13.

Docket Numbers: RP14-166-000.

Applicants: Natural Gas Pipeline Company of America.

Description: Cities of Pickneyville and Salem—Negotiated Rate to be effective 12/1/2013.

Filed Date: 11/14/13.

Accession Number: 20131114-5075.

Comments Due: 5 p.m. ET 11/26/13.

Docket Numbers: RP14-167-000.

Applicants: Horizon Pipeline Company, L.L.C.

Description: Negotiated Rate—Nicor to be effective 11/13/2013.

Filed Date: 11/14/13.

Accession Number: 20131114-5076.

Comments Due: 5 p.m. ET 11/26/13.

Docket Numbers: RP14-168-000.

Applicants: Eastern Shore Natural Gas Company.

Description: Incorporation by Reference of Storage Rates to be effective 12/14/2013.

Filed Date: 11/14/13.

Accession Number: 20131114-5095.

Comments Due: 5 p.m. ET 11/26/13.

Docket Numbers: RP14-170-000.

Applicants: Gulf Crossing Pipeline Company LLC.

Description: Panda Non-conforming Agmts filing to be effective 12/15/2013.

Filed Date: 11/15/13.

Accession Number: 20131115-5023.

Comments Due: 5 p.m. ET 11/27/13.

Docket Numbers: RP14-171-000.

Applicants: Gulf Crossing Pipeline Company LLC.

Description: Zero Fuel Transaction Exemption Filing (eff 12-15-13) to be effective 12/15/2013.

Filed Date: 11/15/13.

Accession Number: 20131115-5024.

Comments Due: 5 p.m. ET 11/27/13.

Docket Numbers: RP14-172-000.

Applicants: Southern Natural Gas Company, L.L.C.

Description: Operational Transactions Report of Southern Natural Gas Company, L.L.C.

Filed Date: 11/15/13.

Accession Number: 20131115-5039.

Comments Due: 5 p.m. ET 11/27/13.

Docket Numbers: RP14-173-000.

Applicants: Discovery Gas Transmission LLC.

Description: 2014 HMRE Filing to be effective 1/1/2014.

Filed Date: 11/15/13.

Accession Number: 20131115-5080.

Comments Due: 5 p.m. ET 11/27/13.

Docket Numbers: RP14-174-000.

Applicants: Algonquin Gas Transmission, LLC.

Description: Modification to Posting Deadline to be effective 12/15/2013.

Filed Date: 11/15/13.

Accession Number: 20131115-5115.

Comments Due: 5 p.m. ET 11/27/13.

Docket Numbers: RP14-175-000.

Applicants: East Tennessee Natural Gas, LLC.

Description: Modification to Posting Deadline to be effective 12/15/2013.

Filed Date: 11/15/13.

Accession Number: 20131115-5124.

Comments Due: 5 p.m. ET 11/27/13.

Docket Numbers: RP14-176-000.

Applicants: Saltville Gas Storage Company L.L.C.

Description: Modification to Posting Deadline to be effective 12/15/2013.

Filed Date: 11/15/13.

Accession Number: 20131115-5130.

Comments Due: 5 p.m. ET 11/27/13.

Docket Numbers: RP14-177-000.

Applicants: Texas Eastern Transmission, LP.

Description: Modification to Posting Deadline to be effective 12/15/2013.

Filed Date: 11/15/13.

Accession Number: 20131115-5147.

Comments Due: 5 p.m. ET 11/27/13.

Docket Numbers: RP14-178-000.

Applicants: Southeast Supply Header, LLC.

Description: Modification to Posting Deadline to be effective 12/15/2013.

Filed Date: 11/15/13.

Accession Number: 20131115-5159.

Comments Due: 5 p.m. ET 11/27/13.

Docket Numbers: RP14-179-000.

Applicants: Midcontinent Express Pipeline LLC.

Description: Compliance Filing in Docket No. RP13-1080 to be effective 12/15/2013.

Filed Date: 11/15/13.

Accession Number: 20131115-4007.

Comments Due: 5 p.m. ET 11/27/13.

Docket Numbers: RP14-180-000.

Applicants: Gas Transmission Northwest LLC.

Description: Medford E-2 Rate Removal to be effective 12/19/2013.

Filed Date: 11/18/13.

Accession Number: 20131118-5023.

Comments Due: 5 p.m. ET 12/2/13.

Docket Numbers: RP14-181-000.

Applicants: Natural Gas Pipeline Company of America.

Description: Negotiated Rate—Perryville FTS and FTS-G to be effective 12/1/2013.

Filed Date: 11/18/13.

Accession Number: 20131118-5144.

Comments Due: 5 p.m. ET 12/2/13.

Docket Numbers: RP14-182-000.

Applicants: Natural Gas Pipeline Company of America.

Description: Natural Gas Pipeline Company of America LLC submits tariff filing per 154.204: Negotiated Rate—Town of Corning, IL to be effective 12/1/2013.

Filed Date: 11/18/13.

Accession Number: 20131118-5195.

Comments Due: 5 p.m. ET 12/2/13.

Docket Numbers: RP14-183-000.

Applicants: Natural Gas Pipeline Company of America.

Description: Natural Gas Pipeline Company of America LLC submits tariff filing per 154.204: Negotiated Rate—City of Sullivan to be effective 12/1/2013.

Filed Date: 11/18/13.

Accession Number: 20131118-5196.

Comments Due: 5 p.m. ET 12/2/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 19, 2013.
Nathaniel J. Davis, Sr.,
Deputy Secretary.

[FR Doc. 2013-28630 Filed 11-27-13; 8:45 am]

BILLING CODE 6717-01-P